DEPARTMENT OF JUSTICE

Immigration and Naturalization Service

Agency Information Collection Activities; Proposed Collection; Comment Request

ACTION: Request Emergency Approval; Application for Asylum and for Withholding of Removal, From I-589.

The Department of Justice (the Department), Immigration and Naturalization Service has submitted an information collection request (ICR) utilizing emergency review procedures to the Office of Management and Budget (OMB) for review and clearance in accordance with section 1320.13(a)(1)(ii) and (a)(2)(iii) of the Paperwork Reduction Act of 1995. The INS has determined that it cannot reasonably comply with the normal clearance procedures are reasonably likely to prevent or disrupt the collection of information. The INS is requesting emergency review from OMB of this information collection to ensure compliance with the Enhanced Border Security and Visa Entry Reform Act of 2002 (Border Security Act) (Pub. L. 107-173 (May 14, 2002)).

The INS seeks permission to use the Form I-589 to serve as an alternate application for evidence of employment authorization for individuals granted asylum, eliminating their need to file a separate Form I-765, Application for Employment Authorization (OMB No. 1115-0163) with the INS if, after being granted asylum, they wish to receive an Employment Authorization Document (EAD) containing both evidence of employment authorization and identity. The Form I-589 collects the same biographic information as that collected by the Form I-765. In those cases where asylum is granted, the biographic information contained on the I-589 could also be used to generate the employment authorization document. While dual-use has advantages for both the government and the public with respect to streamlining information collections, passage of the Border Security Act has increased the necessity of developing such a process. Section 309 of the Border Security Act requires the Attorney General to begin issuing an employment authorization document (EAD) with a photo and fingerprint to asylees “immediately” upon the grant of asylum. Such procedures must be in place as November 10, 2002. Due to the passage of the Border Security Act the question of how to process asylee employment authorization documents became even more critical. The INS and the Department now seek emergency OMB approval for the dual use of the Form I-589 to enable the INS to comply with the Border Security Act implementation date of November 10, 2002, as discussed above.

For the aforementioned reasons, the INS is requesting emergency OMB review and approval of this information collection request by October 24, 2002. If granted, the emergency approval is only valid for 180 days. ALL comments and/or questions pertaining to this pending request for emergency approval must be directed to OMB, Office of Information and Regulatory Affairs, Attention: Department of Justice Desk Officer, 725-17th Street, NW., Suite 10102, Washington, DC 20503. Comments regarding the emergency submission of this information collection may also be submitted via facsimile to (202) 395-6974.

During the first 60 days of this same period, a regular review of this information collection is also being undertaken. During the regular review period, the INS requests written comments an suggestions from the public and affected agencies concerning this information collection. Comments are encouraged and will be accepted until December 23, 2002. During the 60-day regular review, ALL comments and suggestions or questions regarding additional information, to include obtaining a copy of the information collection instrument with instructions, should be directed to Mr. Richard A. Sloan, (202) 514-3291, Director, Regulations and Forms Services Division, Immigration and Naturalization Service, U.S. Department of Justice, Room 4034, 425 I Street, NW., Washington, DC 20536. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of a currently approved collection.

(2) Title of the Form/Collection: Application for Asylum and Withholding of Removal.

(3) Agency form number, if any, and the applicable component of the Department of Justice sponsoring the collection: Form I-589. Office of International Affairs, Immigration and Naturalization Service.

(4) Affected public who will be asked or required to respond, as will as a brief abstract: Primary: Individuals or Households. This information collection will be used to determine whether an alien applying for asylum and/or withholding of deportation in the United States is classifiable as a refugee, and is eligible to remain in the United States.

(5) An estimate of the total number of respondents and the amount of time estimated for an average respondent to respond: 78,000 responses at 12 hours per response.

(6) An estimate of the total public burden (in hours) associated with the collection: 936,000 annual burden hours.

If you have additional comments, suggestions, or need a copy of the proposed information collection instrument with instructions, or additional information, please contact Richard A. Sloan (202) 514-3291, Director, Regulations and Forms Services Division, Immigration and Naturalization Service, U.S. Department of Justice, Room 4034, 425 I Street, NW., Washington, DC 20536. Additionally, comments and/or suggestions regarding the item(s) contained in this notice, especially regarding the estimated public burden and associated response time may also be directed to Mr. Richard A. Sloan.

If additional information is required contact: Mr. Robert B. Briggs, Clearance Officer, United States Department of Justice, Information Management and Security Staff, Justice Management Division, 601 D Street, NW., Patrick Henry Building, Suite 1600, Washington, DC 20530.

Dated: October 17, 2002.
Richard A. Sloan,
Department Clearance Officer, Department of Justice, Immigration and Naturalization Service.

[FR Doc. 02-26866 Filed 10-21-02; 8:45 am]

BILLING CODE 4410-10-M